DEPARTMENT OF COMMERCE

National Oceanic and Atmospheric Administration

50 CFR Part 648

[Docket No. 060209031-6092-02; I.D. 020606C]

RIN 0648-AU09

Fisheries of the Northeastern United States; Northeast Multispecies Fishery; Emergency Secretarial Action; Correction

AGENCY: National Marine Fisheries Service (NMFS), National Oceanic and Atmospheric Administration (NOAA), Commerce.

ACTION: Temporary rule; emergency interim final rule; correction.

SUMMARY: On April 13, 2006, an interim final rule to implement an emergency action for the Northeast (NE) Multispecies Fishery Management Plan (FMP) was published in the Federal Register. The interim final rule was published with several inadvertent errors and unclear language, including the omission of the observer notice requirement for vessels participating in the U.S./Canada Management Area, language in the regulations defining how monkfish-only days-at-sea (DAS) are calculated, an inaccurate description regarding the example of how NE multispecies Category A DAS will be calculated for Day gillnet vessels, and incorrect trip limits for white hake. This document corrects these errors and clarifies the unclear language.

DATES: Effective May 1, 2006.

FOR FURTHER INFORMATION CONTACT: Douglas W. Christel, Fishery Policy Analyst, (978) 281-9141, fax (978) 281-9135.

SUPPLEMENTARY INFORMATION:

Background

On April 13, 2006 (71 FR 19348, FR Doc. 06-3504), an interim final rule was published that implemented emergency management measures, authorized by section 305(c) of the Magnuson-Stevens Fishery Conservation and Management Act, that are intended to immediately reduce fishing mortality on specific groundfish stocks beginning May 1, 2006, in order to maintain the rebuilding programs established under Amendment 13 to the FMP. However, the interim final rule included several inadvertent errors and some unclear language in both the preamble and the regulatory text that need to be corrected or clarified. The errors and unclear language were incorrect examples of how monkfish-only DAS are calculated when a vessel issued both a limited access NE multispecies DAS and a monkfish permit is subject to differential DAS counting, an inaccurate description regarding the examples of how NE multispecies Category A DAS will be calculated for Day gillnet vessels, omission of the observer notice requirement for vessels participating in the U.S./Canada Management Area, and inaccurate white hake trip limits in the regulatory text that differed from the preamble text. This notice corrects these errors and clarifies the unclear language, as described below.

Correction

Accordingly, the interim final rule, published on April 13, 2006, at 71 FR 19348, to be effective May 1, 2006, is corrected as follows:

1. On page 19350, in column 1, in the first full paragraph, line 20, correct “or” to read “and”. On line 23, correct “10” to read “20”. On line 24, correct “14” to read “28”. Finally, on line 25, correct “10” to read “20”.

2. On page 19350, in column 2, line 27, correct the number “0.57” to read “0.80” and correct the number “2” to read “2.8”.

3. On page 19351, in column 3, line 15 and 16, remove the phrase ”, unless otherwise specified below;”. On line 27, insert the phrase “and using gear other than trawl gear” after the word “program”.

§ 648.82 [Corrected]

4. On page 19376, in column 2, under amendatory instruction 7, lines 4 and 5, remove the phrase “(d)(5) through (7),”. On line 5, correct “(l)(2)(viii)” to read “(l)(1)(viii)”.

§ 648.82 [Corrected]

5. On page 19378, in column 1, in § 648.82, paragraph (s)(1)(iii) is corrected to read “(iii) Method of counting DAS. Unless electing to fish in the Regular B DAS Program specified in § 648.85(b)(10), and therefore subject to the DAS accrual provisions of paragraph (n)(3) of this section, or fishing under a Category A DAS exclusively within the U.S./Canada Management Area specified at § 648.85(a)(1), a Day gillnet vessel fishing with gillnet gear under a NE multispecies Category A DAS shall accrue 15 hours of DAS for each trip of more than 3 hours, but less than or equal to 11 hours. For a trip less than or equal to 3 hours, or more than 11 hours, the ratio of Category A DAS used to time called into the DAS program will be 1.4 to 1.0. A Day gillnet vessel fishing exclusively within the U.S./Canada Management Area shall accrue 15 hours of DAS for each trip of more than 3 hours, but less than or equal to 15 hours. For a trip less than or equal to 3 hours, or more than 15 hours, the ratio of Category A DAS used to time called into the DAS program will be 1.0 to 1.0.”

§ 648.85 [Corrected]

6. On page 19382, in column 2, § 648.85, after the first full pragraph, add paragraph (a)(3)(viii)(C) to read:

“ (C) For the purposes of selecting vessels for observer deployment, a vessel fishing in either of the U.S./Canada Management Areas specified in paragraph (a)(1) of this section must provide notice to NMFS of the vessel name; contact name for coordination of observer deployment; telephone number for contact; and the date, time, and port of departure, at least 72 hours prior to the beginning of any trip that it declares into the U.S./Canada Management Area as required under this paragraph (a)(3)(viii). ”

§ 648.85 [Corrected]

7. On page 19384, in column 3, in § 648.85, paragraph (b)(10)(iv)(D), the last sentence beginning on line 14 is corrected to read, “If fishing with trawl gear, possession of monkfish (whole weight) and skates is limited to 500 lb (227 kg) per trip each and possession of lobsters is prohibited. For vessels fishing with gear other than trawl gear, possession of monkfish is restricted by the regulations at § 648.94(b)(7).”

§ 648.86 [Corrected]

8. On page 19385, in column 3, in § 648.86, line 11, correct “500 lb (226.8 kg)” to read “1,000 lb (453.6 kg)”. On lines 13 and 14, correct “5,000 lb (2,268.1 kg)” to read “10,000 lb (4,536 kg)”.

§ 648.92 [Corrected]

9. On page 19389, in column 1, in § 648.92, paragraph (b)(2)(iv)(B), line 16, correct the phrase “that vessel used” to read “charged at the differential DAS counting rate of 1.4:1 when fishing”. On line 28, correct the number “0.57” to read “0.8”. On line 29, correct the number “2” to read “2.8” and the number “0.57” to read “0.80”. On line 31, correct the number “28” to read “27.2”

§ 648.92 [Corrected]

10. On page 19389 , in column 2, in § 648.92, paragraph (b)(2)(iv)(B), line 1, correct the number “10.57” to read “10.80” and correct the number “0.57” to read “0.80”.

Dated: April 24, 2006.
John Oliver,
Deputy Assistant Administrator for Operations, National Marine Fisheries Service.

[FR Doc. 06-4029 Filed 4-25-06; 4:10 pm]

BILLING CODE 3510-22-P